NUCLEAR REGULATORY COMMISSION

10 CFR Part 35

[Docket No. PRM-35-13]

National Registry of Radiation Protection Technologists; Withdrawal of Petition for Rulemaking

AGENCY: Nuclear Regulatory Commission.

ACTION: Withdrawal of petition for rulemaking.

SUMMARY: The Nuclear Regulatory Commission (NRC) is notifying the public of the withdrawal of a petition for rulemaking (PRM-35-13) submitted by the National Registry of Radiation Protection Technologists (NRRPT). The petitioner requested that the NRC amend its regulations to accept NRRPT registration in lieu of the requirement for 200 hours of classroom training specified in 10 CFR 35.900(b)(1), and to accept the NRRPT registration as a substitute for 9 of the 12 months experience required in 10 CFR 35.900(b)(2) as a radiation safety technologist at a medical institution under the supervision of the Radiation Safety Officer (RSO). Since the receipt of the petition, the NRC has revised 10 CFR part 35, essentially in its entirety. The final rule was published in the Federal Register on April 24, 2002 (67 FR 20251-20397). On August 7, 2002, the petitioner formally withdrew its petition.

ADDRESSES: Copies of the petition for rulemaking, the public comments received, and NRC's e-mail acknowledging the petitioner's request to withdraw the petition may be examined at the NRC Public Document Room, Room O1F23, 11555 Rockville Pike, Rockville, MD. These documents also may be viewed and downloaded electronically via the rulemaking Web site.

The NRC maintains an Agencywide Document Access and Management System (ADAMS), which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737, or by e-mail to pdr@nrc.gov.

FOR FURTHER INFORMATION CONTACT: Patricia L. Eng, Office of Nuclear Material Safety and Safeguards, U.S. Nuclear Regulatory Commission, Washington, DC 20555-0001, telephone (301) 415-7206, e-mail ple@nrc.gov.

SUPPLEMENTARY INFORMATION: On February 8, 1996, (61 FR 4754), the NRC published a notice of receipt of a petition for rulemaking PRM 35-13 in the Federal Register. The petition was submitted by the National Registry of Radiation Protection Technologists. The petition requested that the NRC amend its regulations to accept NRRPT registration in lieu of the requirement for 200 hours of classroom training specified in 10 CFR 35.900(b)(1), and to accept the NRRPT registration as a substitute for 9 of the 12 months experience required in 10 CFR 35.900(b)(2) as a radiation safety technologist at a medical institution under the supervision of the Radiation Safety Officer. Since the receipt of the petition, the NRC has revised 10 CFR part 35, essentially in its entirety. The final rule was published in the Federal Register on April 24, 2002 (67 FR 20251-20397). On August 7, 2002, the petitioner informed the NRC that it wished to withdraw its petition. Based on the petitioner's request, the NRC is withdrawing this petition for rulemaking.

Dated at Rockville, Maryland, this 18th day of September 2002.
For the Nuclear Regulatory Commission.
Annette Vietti-Cook,
Secretary of the Commission.

[FR Doc. 02-24221 Filed 9-23-02; 8:45 am]

BILLING CODE 7590-01-P